DEPARTMENT OF TRANSPORTATION

Pipeline and Hazardous Materials Safety Administration

49 CFR Part 192

[Docket No. PHMSA-2025-0130]

RIN 2137-AF99

Pipeline Safety: Standards Update—NFPA 70

AGENCY: Pipeline and Hazardous Materials Safety Administration (PHMSA), Department of Transportation (DOT).

ACTION: Direct final rule (DFR); confirmation of effective date.

SUMMARY: PHMSA is confirming the effective date for the DFR that appeared in the Federal Register on July 1, 2025. The DFR amended PHMSA's regulations at 49 CFR part 192 to incorporate by reference the updated industry standard National Fire Protection Association (NFPA) 70, “National Electrical Code” (NEC).

DATES: PHMSA confirms the effective date of January 1, 2026, for the DFR that appeared in the Federal Register on July 1, 2025 (90 FR 28072).

FOR FURTHER INFORMATION CONTACT: Brianna Wilson, Transportation Specialist, by phone at 771-215-0969 or email at brianna.wilson@dot.gov.

SUPPLEMENTARY INFORMATION: On July 1, 2025 (90 FR 28072), PHMSA published a DFR amending its regulations at 49 CFR part 192 to incorporate by reference the 2023 edition of NFPA 70, NEC.

References to the 2023 edition of the standard will replace existing references to NFPA 70, “National Electrical Code (NEC),” 2017 edition, effective August 24, 2016, within 49 CFR 192.163(e) and 192.189(c).

PHMSA issued the DFR under the procedures set forth at 49 CFR 190.339. In accordance with those provisions, PHMSA stated in the DFR that if no adverse comments were received, the DFR would become final and effective on January 1, 2026. PHMSA did not receive any comments that warranted withdrawal of the DFR; therefore, this rule will become effective as scheduled.

Issued in Washington, DC, on September 30, 2025, under the authority designated in 49 CFR 1.97.
Benjamin D. Kochman,
Deputy Administrator.

[FR Doc. 2025-19332 Filed 10-1-25; 8:45 am]

BILLING CODE 4910-60-P